INTERNATIONAL TRADE COMMISSION

[Inv. No. 337-TA-480]

Certain Panel Fasteners, Products Containing Same, and Components Thereof; Notice of Commission Decision Not To Review an Initial Determination Terminating the Investigation on the Basis of a Consent Order; Issuance of Consent Order

AGENCY: U.S. International Trade Commission.

ACTION: Notice.

SUMMARY: Notice is hereby given that the U.S. International Trade Commission has determined not to review the presiding administrative law judge's (“ALJ's”) initial determination (“ID”) terminating the above-captioned investigation on the basis of a consent order.

FOR FURTHER INFORMATION CONTACT: Clara Kuehn, Esq., Office of the General Counsel, U.S. International Trade Commission, 500 E Street, SW., Washington, DC 20436, telephone (202) 205-3012. Copies of the ALJ's ID and all other nonconfidential documents filed in connection with this investigation are or will be available for inspection during official business hours (8:45 a.m. to 5:15 p.m.) in the Office of the Secretary, U.S. International Trade Commission, 500 E Street, SW., Washington, DC 20436, telephone 202-205-2000. General information concerning the Commission may also be obtained by accessing its Internet server (http://www.usitc.gov). The public record for this investigation may be viewed on the Commission's electronic docket (EDIS-ON-LINE) at http://dockets.usitc.gov/eol/public. Hearing-impaired persons are advised that information on this matter can be obtained by contacting the Commission's TDD terminal on 202-205-1810.

SUPPLEMENTARY INFORMATION: The Commission instituted this investigation on October 4, 2002, based on a complaint filed on behalf of Kason Industries, Inc. of Shenandoah, Georgia (“Kason”). 67 FR 62,264 (2002). The complaint, as supplemented, alleged violations of section 337 in the importation into the United States, sale for importation, and sale within the United States after importation of certain panel fasteners, products containing same, and components thereof by reason of infringement of claim 1 of U.S. Patent No. 6,299,224, and claims 1-4 of U.S. Patent No. 6,409,235. Id. The Commission named as respondents Cheng Tai Company of Kwun Tong Kowloon, Hong Kong (“Cheng Tai”); Ningbo Foreign Trading Company, Ltd. of Ningbo, China (“Ningbo”); and Component Hardware Group of Lakewood, New Jersey (“CHG”). Id.

On March 24, 2003, respondent CHG filed an unopposed motion to terminate the investigation as to CHG on the basis of a proposed consent order. On April 2, 2003, the Commission investigative attorney (“IA”) filed a response supporting CHG's motion. In a paper filed April 7, 2003, respondent CHG noted that in light of the agreement by Cheng Tai and Ningbo to be bound by the proposed consent order, CHG was submitting a proposed joint consent order that applied to CHG, Cheng Tai, and Ningbo. On April 7, 2003, Cheng Tai also filed a consent order stipulation and a copy of the proposed joint consent order. On April 8, 2003, Ningbo filed a consent order stipulation and a copy of the proposed joint consent order. On April 14, 2003, the IA filed a supplemental response supporting termination of the investigation as to respondents CHG, Cheng Tai, and Ningbo on the basis of the proposed joint consent order. On April 18, 2003, Kason responded that it did not oppose the consent order stipulations filed by Cheng Tai and Ningbo.

On April 21, 2003, the ALJ issued an ID (Order No. 7) terminating the investigation on the basis of the proposed joint consent order. No petitions for review of the ID were filed.

The authority for the Commission's determination is contained in section 337 of the Tariff Act of 1930, as amended (19 U.S.C. 1337), and in section 210.42 of the Commission's Rules of Practice and Procedure (19 CFR 210.42).

Issued: May 13, 2003.
By order of the Commission.
Marilyn R. Abbott,
Secretary to the Commission.

[FR Doc. 03-12460 Filed 5-16-03; 8:45 am]

BILLING CODE 7020-02-P